DEPARTMENT OF AGRICULTURE

Forest Service

Fremont and Winema Resource Advisory Committee

AGENCY: Forest Service, USDA.

ACTION: Notice of meeting.

SUMMARY: The Fremont and Winema Resource Advisory Committee will meet in Klamath Falls, Oregon, for the purpose of evaluating and recommending resource management projects for funding in FY 2009, under the provisions of Title II of the Secure Rural Schools and Community Self-Determination Act of 2008 (Pub. L. 110-343).

DATES: The meeting will be held on March 30 and 31, 2009.

ADDRESSES: The meeting will take place at the Klamath Ranger District Office, 2819 Dahlia Street, Klamath Falls, OR 97601.

Send written comments to Fremont and Winema Resource Advisory Committee, c/o USDA Forest Service, 2819 Dahlia Street, Klamath Falls, OR 97601 or electronically to agowan@fs.fed.us.

FOR FURTHER INFORMATION CONTACT: Amy Gowan, Designated Federal Official, c/o Klamath Ranger District, 2819 Dahlia Street, Klamath Falls, OR 97601, telephone (541) 883-6741

SUPPLEMENTARY INFORMATION: The agenda will include a review of the 2008 legislation, consideration of Title II project proposals for FY 2009 submitted by the Forest Service, the public, and other agencies, presentations by project proponents, and final recommendations for funding of fiscal year 2009 projects.

All Fremont and Winema Resource Advisory Committee Meetings are open to the public. Public input and comment forum will take place in the afternoon of March 31, 2009. Interested citizens are encouraged to attend.

Dated: February 11, 2009.
Amy Gowan,
Designated Federal Official.

[FR Doc. E9-3356 Filed 2-17-09; 8:45 am]

BILLING CODE 3410-11-P